DEPARTMENT OF ENERGY

Federal Energy Regulatory Commission

Notice of Scoping Meetings and Site Visit and Soliciting Scoping Comments

April 7, 2000.

Take notice that the Commission intends to hold scoping meetings for the following hydroelectric application which has been filed with the Commission:

a. Type of Application: New Major License.

b. Project No.: P-2056-016.

c. Date filed: December 21, 1998.

d. Applicant: Northern States Power Company.

e. Name of Project: St. Anthony Falls Project.

f. Location: On the Mississippi River, near Minneapolis and St. Paul, Hennepin County, Minnesota.

g. Filed Pursuant to: Federal Power Act 16 U.S.C. 791 (a)-825(r).

h. Applicant Contact: Mark H. Holmberg, P.E., Northern States Power Company, 414 Nicollet Mall, Minneapolis, MN 55401, (612) 330-6568.

i. FERC Contact: Any questions on this notice should be addressed to Monte TerHaar, E-mail address monte.terhaar@ferc.fed.us, or telephone (202) 219-2768.

j. Deadline for filing scoping comments: 30 days after date of scoping meeting. All documents (original and eight copies) should be filed with: June 9, 2000.

All documents should be filed with David P. Boergers, Secretary Federal Energy Regulatory Commission, 888 First Street, NE., Washington, DC 20426.

Please include the project number (P-2056-016) on any comments, motions or protests filed.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Status of environmental analysis: This application is not ready for environmental analysis at this time..

l. Description of Project: The Project consists of the following existing facilities located across from the U.S. Army Corps of Engineers Upper Saint Anthony Lock: (1) Horseshoe Dam, 1 1,952-foot-long concrete, timber, and rock structure topped with 1.6-foot-high wooden flashboards; (2) the main spillway, a concrete, timber and rock structure 425 feet wide and 150 feet-long; (3) a 340-foot-long roll dam; (4) a 358-acre reservoir with a normal pool water surface elevation of 799.2 feet NGVD, and a total storage capacity of 967 acre-feet; (5) a concrete and masonry powerhouse, 133 feet long by 92 feet wide; (6) 5 turbines with a total installed capacity of 12,400 kilowatts, and a maximum hydraulic capacity of 4,025 cfs, producing an average of 79,518 megawatthours annually; and (7) four 115-kilovolt primary transmission lines; and other appurtenances..

m. Locations of the application: A copy of the application is available for inspection and reproduction at the Commission's Public Reference Room, located at 888 First Street, NE., Room 2A, Washington, DC 20426, or by calling (202) 208-1371. The application may be viewed on the web at http://www.ferc.fed.us/online/rimns.htm or call 202-208-2222 for assistance. A copy is also available for inspection and reproduction at the address in item h above..

n. Scoping Process: The Commission intends to prepare an Environmental Assessment (EA) on the project in accordance with the National Environmental Policy Act. The EA will consider both site-specific and cumulative environmental impacts and reasonable alternatives to the proposed action.

Scoping Meetings

The Commission will hold scoping meetings, one in the daytime and one in the evening, to help us identify the scope of issues to be addressed in the E.A.

The daytime scoping meeting will focus on resource agency concerns, while the evening scoping meeting is primarily for public input. All interested individuals, organizations, and agencies are invited to attend one or both of the meetings, and to assist the staff in identifying the scope of the environmental issues that should be analyzed in the EA. The times and locations of these meetings are as follows:

Daytime Meeting: Tuesday, May 9, 2000 at 1 p.m.

Evening Meeting: Tuesday, May 9, 2000 at 7:30 p.m.

Location: Audtiorium—St. Anthony Falls Laboratory, Third Ave. SE & Mississippi River, Minneapolis, MN 55414, Phone: 612-647-4010.

To help focus discussions, we will distribute a Scoping Document (SD1) outlining the subject areas to be addressed in the EA to the parties on the Commission's mailing list. Copies of the SD1 also will be available at the scoping meetings.

Site Visit

The applicant and Commission staff will conduct a project site visit on Tuesday, May 9, 2000 starting at 3:00 p.m. We will meet at the parking lot near the project powerhouse which is adjacent to the laboratory. Those who wish to attend the site visit should contact Lloyd Everhart of NSP at 715-839-2692 on or before May 5, 2000.

Objectives

At the scoping meetings, the staff will: (1) Summarize the environmental issues tentatively identified for analysis in the EA; (2) solicit from the meeting participants all available information, especially quantifiable data, on the resource at issue; (3) encourage statements from experts and the public on issues that should be analyzed in the EA, including viewpoints in opposition to, or in support of, the staff's preliminary views; (4) determine the resource issues to be addressed in the EA; and (5) identify those issues that require a detailed analysis, as well as those issues that do not require a detailed analysis.

Procedures

The meetings will be recorded by a stenographer and will become part of the formal record of the Commission proceeding on the project. Individuals presenting statements at the meeting will be asked to sign in before the meeting starts and to clearly identify themselves for the record.

Individuals, organizations, and agencies, with environmental expertise and concerns are encouraged to attend the meetings and to assist the staff in defining and clarifying this issue to be addressed in the EA.

David P. Boergers,
Secretary.

[FR Doc. 00-9165 Filed 4-12-00; 8:45 am]

BILLING CODE 6717-01-M